DEPARTMENT OF COMMERCE

Foreign-Trade Zones Board

(Docket 19 -2005)

Foreign-Trade Zone 94 - Laredo, Texas, Application for Expansion

An application has been submitted to the Foreign-Trade Zones Board (the Board) by the City of Laredo, grantee of FTZ 94, requesting authority to expand its zone in the Laredo, Texas area, within the Laredo Customs port of entry. The application was submitted pursuant to the provisions of the Foreign-Trade Zones Act (19 U.S.C. 81a-81u), and the regulations of the Board (15 CFR Part 400). It was formally filed on May 9, 2005.

FTZ 94 was approved by the Board on November 22, 1983 (Board Order 235, 48 FR 53737; 11/29/83) and expanded on March 26, 1990 (Board Order 468, 55 FR 12696; 4/5/90); December 29, 1992 (Board Order 620, 58 FR 3533; 1/11/93); January 17, 1997 (Board Order 866, 62 FR 4028, 1/28/97); and, November 28, 2000 (Board Order 1130, 65 FR 77851, 12/13/00). The zone currently consists of six sites in the Laredo area:

Site 1 - (494 acres) within the 1,600-acre Laredo International Airport Industrial Park;

Site 1a - (1 acre) at 302 Grand Central Boulevard, within the Milo Distribution Center

Site 1b - (1 acre) at 22219 Mines Road, within the Transmaritime Inc.'s Transhipment Terminal (Sites 1a & 1b expire 11/1/06)

Site 2 - (20 acres) industrial park owned by the Texas-Mexican Railway, along Highway 359 in Webb County;

Site 3 - (550 acres) within the 1,400-acre Killiam Industrial area at 12800 Old Mines Road;

Site 4 - (1,500 acres) within the 7,000-acre International Commerce Center, Laredo;

Site 5 - (930 acres) La Barranca Ranch Industrial Park, at Interstate Highway 35, adjacent to the Union Pacific rail line, northern Webb County; and,

Site 6 - (682 acres) Unitec Industrial Center, Interstate Highway 35, 12 miles northwest of Laredo International Airport.

The applicant is now requesting authority to expand the zone to include a site (831 acres) within the 1,530-acre Embarcadero Business Park, owned by Fasken, Ltd. The site is adjacent to the World Trade Bridge, which is a commercial U.S. - Mexico border crossing.

No specific manufacturing requests are being made at this time. Such requests would be made to the Board on a case-by case basis.

In accordance with the Board's regulations, a member of the FTZ Staff has been designated examiner to investigate the application and report to the Board.

Public comment on the application is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW, Washington, DC 20005; or

2. Submissions via U.S. Postal Service: Foreign Trade Zones Board, U.S. Department of Commerce, FCB-4100W, 1401 Constitution Ave., NW., Washington, DC 20230.

The closing period for their receipt is [60 days from date of publication]. Rebuttal comments in response to material submitted during the foregoing period may be submitted during the subsequent 15-day period (to [75 days from date of publication]).

A copy of the application will be available for public inspection at the Office of the Foreign-Trade Zones Board's Executive Secretary at address No. 1 listed above and at the Office of the Port Director, U.S. Customs and Border Protection, Lincoln Juarez Bridge, Administrative Building #2, Laredo, TX 78040

Dated: May 9, 2005.
Dennis Puccinelli,
Executive Secretary.

[FR Doc. 05-9601 Filed 5-12-05; 8:45 am]

BILLING CODE 3510-DS-S